DEPARTMENT OF HOUSING AND URBAN DEVELOPMENT

[Docket No. FR-5383-N-11]

Proposed Information Collection to OMB Indian Housing Block Grant (IHBG) Program (Combined and Simplified Indian Housing Plan and Annual Performance Reporting Requirements); Withdrawal of Notice

AGENCY: Office of the Chief Information Officer, HUD.

ACTION: Notice, withdrawal.

SUMMARY: The Office of the Chief Information Officer is announcing the withdrawal of the Indian Housing Block Grant (IHBG) Program (Combined and Simplified Indian Housing Plan and Annual Performance Reporting Requirements) proposed information collection published on May 21, 2010.

DATES: The withdrawal is effective June 30, 2010.

FOR FURTHER INFORMATION CONTACT: Dacia Rogers, Office of Policy, Programs and Legislative Initiatives, PIH, Department of Housing and Urban Development, 451 7th Street, SW., Room 4116, Washington, DC 20410; telephone 202-402-3374, (this is not a toll-free number).

SUPPLEMENTARY INFORMATION: HUD established a working group to streamline the Indian Housing Plan (IHP) and Annual Performance Report (APR) to address the amendments which were made in the NAHASDA Reauthorization Act of 2008. The objective of the IHP/APR streamlining was to reduce the reporting burden on tribes and tribally designated housing entities. It was HUD's intention to publish the notice to maintain momentum as we continued with the negotiated rule making process. At this time, HUD is withdrawing the emergency comment request for the Indian Housing Block Grant (IHBG) Program (Combined and Simplified Indian Housing Plan and Annual Performance Reporting Requirements) Notice of Proposed Information Collection published on May 21, 2010. Tribes and tribally designated housing entities should continue to use the current versions of the Indian Housing Plan and Annual Performance Report until further notice.

Title of Proposed Notice: Indian Housing Block Grant Program (Combined Indian Housing Plan and Annual Performance Reporting Requirements) .

Description of Information Collection: This is a withdrawal of a proposed information collection.

Authority: The Paperwork Reduction Act of 1995, 44 U.S.C. ch. 35, as amended.

Dated: June 24, 2010.
Merrie Nichols-Dixon,
Acting Deputy Assistant Secretary for Policy, Programs, and Legislative Initiatives.

[FR Doc. 2010-15875 Filed 6-29-10; 8:45 am]

BILLING CODE 4210-67-P